DEPARTMENT OF HOUSING AND URBAN DEVELOPMENT

[Docket No. 5556-D-04]

Redelegation of Authority for the Deputy Assistant Secretaries in the Office of Community Planning and Development

AGENCY: Office of the Assistant Secretary for Community Planning and Development, HUD.

ACTION: Notice of redelegation of authority to Deputy Assistant Secretaries in Community Planning and Development.

SUMMARY: In this notice, the Assistant Secretary of Community Planning and Development redelegates to the Deputy Assistant Secretaries and other specified HUD officials all powers and authorities necessary to carry out Office of Community Planning and Development programs, except those powers and authorities specifically excluded.

DATES: Effective Date: October 4, 2011 .

FOR FURTHER INFORMATION CONTACT: David H. Enzel, Director of Technical Assistance and Management, Office of Community Planning and Development, Department of Housing and Urban Development, 451 7th Street, SW., Room 7228, Washington, DC 20410-7000; telephone number 202 402-5557. This is not a toll-free number. For those needing assistance, this number may be accessed via TTY by Calling the Federal Information Relay Service at 800-877-8339.

SUPPLEMENTARY INFORMATION: Published elsewhere in today's Federal Register is a revised consolidated delegation of authority from the Secretary to the Assistant Secretary for Community Planning and Development and the General Deputy Assistant Secretary for Community Planning and Development. This notice updates and revises redelegations of authority to Deputy Assistant Secretaries and other specified HUD officials within the Office of Community Planning and Development (CPD). Also published elsewhere in today's Federal Register is a redelegation of authority from the Assistant Secretary for Community Planning and Development to subordinate employees within CPD Field Offices.

Section A. General Redelegation of Authority

1. Deputy Assistant Secretary for Grant Programs

Except those authorities specifically excluded, the Assistant Secretary redelegates to the Deputy Assistant Secretary for Grant Programs all powers and authorities of the Assistant Secretary necessary to carry out the following Community Planning and Development programs and matters:

a. Comprehensive Housing Affordability Strategies (CHAS), Title I of the Cranston-Gonzalez National Affordable Housing Act, Public Law 101-625, 104 Stat. 4079 (1990) (codified as amended at 42 U.S.C. 12701 et seq.); 24 CFR part 91.

b. The HOME Investment Partnerships Act, Title II of the Cranston-Gonzalez National Affordable Housing Act, Public Law 101-625, 104 Stat. 4079 (1990) (codified as amended at 42 U.S.C. 12721 et seq.); 24 CFR part 92.

c. Housing Trust Fund (HTF), Section 1338 of the Federal Housing Enterprises Financial Safety and Soundness Act of 1992, added by Section 1131 of Public Law 110-289, 122 Stat. 2654 (codified at 12 U.S.C. 4568).

d. Tax Credit Assistance Program (TCAP) as authorized under the HOME Investments Partnership Program heading of Division A, Title XII of American Recovery and Reinvestment Act of 2009, Public Law 111-5, 123 Stat. 115, 220-21.

e. Self-Help Housing Opportunity Program (SHOP) under section 11 of the Housing Opportunity Program Extension Act of 1996, Pub. L. No. 104-120, 110 Stat. 834 (codified as amended at 42 U.S.C. 12805 note).

f. Title I of the Housing and Community Development Act of 1974, Public Law 93-383, 88 Stat. 633 (codified as amended at 42 U.S.C. 5301 et seq.); 24 CFR part 570 including:

(1) Community Development Block Grant (CDBG) program;

(2) Section 108 loan guarantee program;

(3) Economic development grants pursuant to Section 108(q);

(4) Neighborhood Stabilization Programs under Housing and Economic Recovery Act of 2008, Public Law 110-289, 122 Stat. 2850; Title XII of Division A of the American Recovery and Reinvestment Act of 2009, Public Law 111-5, 123 Stat. 115; and Section 1497 of the Wall Street Reform and Consumer Protection Act of 2010, Public Law 111-203, 124 Stat. 1376 (codified as amended at 42 U.S.C. 5301 note).

(5) CDBG Disaster Recovery Grants as provided for in annual and supplemental HUD appropriations acts; and

(6) Appalachian Regional Commission grants pursuant to section 214 of the Appalachian Regional Development Act of 1965, Public Law 89-4, 79 Stat. 5 (codified as amended at 40 U.S.C. 14507) and consistent with the CDBG program authorized under Title I of the Housing and Community Development Act of 1974, Public Law 93-383, 88 Stat. 633 (codified as amended at 42 U.S.C. 5301 et seq.).

g. Overall Departmental responsibility for compliance with the Uniform Relocation Assistance and Real Property Acquisition Policies Act of 1970, Public Law 91-646, 84 Stat. 1894 (1971) (codified as amended at 42 U.S.C. 4601 et seq.); 49 CFR part 24 (except for the authority to exercise the Federal Agency waiver authority provided under 49 CFR 24.7).

h. Environment, overall Departmental responsibility for compliance with the National Environmental Policy Act of 1969, Public Law 91-190, 83 Stat. 852 (1970) (codified as amended at 42 U.S.C. 4321-4347), and the related laws and authorities cited in 24 CFR 50.4.

i. Slum Clearance and Urban Renewal Program under Title I of the Housing Act of 1949, Public Law 81-171, 63 Stat. 413 and any program which is superseded or inactive by, or inactive by reason of, Title I of the Housing and Community Development Act of 1974, Public Law 93-383, 88 Stat. 633 (codified as amended at 42 U.S.C. 5316).

j. Rental Rehabilitation Program, United States Housing Act of 1937 § 17, Public Law 98-181, 97 Stat. 1196 (repealed 1990); 24 CFR part 511.

k. Section 312 Rehabilitation Loan Program, Housing Act of 1964 § 312, Public Law 88-560, 78 Stat. 769; 24 CFR part 510.

l. HUD's Homeownership Zone Initiative (HOZ) grants as provided for in section 205 of the Departments of Veterans Affairs and Housing and Urban Development, and Independent Agencies Appropriations Act, 1997, Public Law 104-204, 110 Stat. 2874 (1996) and funded with recaptured Nehemiah grants authorized under Title VI of the Housing and Community Development Act of 1987, Public Law 100-242, 101 Stat. 1815 (1988) (codified at 12 USC 1715l note).

m. HOPE for Homeownership of Single-family Housing Program (HOPE 3), Title IV, Subtitle C of the Cranston-Gonzalez National Affordable Housing Act, Public Law 101-625, 104 Stat. 4079 (1990) (codified at 42 U.S.C. 12891).

n. New Communities Program, Section 413 of the Housing and Urban Development Act of 1968, Public Law 90-448, 82 Stat. 476 (repealed 1983), Section 726 of the Housing and Urban Development Act of 1970, Public Law 91-609 (repealed 1983), 84 Stat. 1784, Section 474 of the Housing and Urban-Rural Recovery Act of 1983, Public Law 98-181, 97 Stat. 1237 (codified at 12 U.S.C. 1701g-5b), and any other functions, powers and duties which may affect the liquidation of the New Communities program.

o. Technical assistance and capacity building awards authorized under any program or matter programs and matters listed in Section A.1 and as provided for in annual and supplemental HUD appropriations acts (e.g., Consolidated Appropriations Act 2010, Pub. L. 111-117, 123 Stat. 3093 (2009)).

Further, in the absence of the Deputy Assistant Secretary for Grant Programs, the Assistant Secretary redelegates to the Director of the Office of Block Grant Assistance all powers and authorities of the Assistant Secretary necessary to carry out programs and matters listed in paragraphs f and i of Section A.1.

Further, in the absence of the Deputy Assistant Secretary for Grant Programs, the Assistant Secretary redelegates to the Director of the Office of Affordable Housing Programs all powers and authorities of the Assistant Secretary necessary to carry out programs and matters listed in paragraphs b, c, d, e, g, and l of Section A.1.

2. Deputy Assistant Secretary for Special Needs

Except those authorities specifically excluded, the Assistant Secretary redelegates to the Deputy Assistant Secretary for Special Needs all powers and authorities of the Assistant Secretary necessary to carry out the following Community Planning and Development programs and matters:

a. Title IV of the McKinney-Vento Homeless Assistance Act, Public Law 100-77, 101 Stat. 482 (1987) (codified as amended at 42 U.S.C. 11301 et seq.), renamed by Act of Oct. 30, 2000, Public Law 106-400, 114 Stat. 1675 (2000), including the following: Emergency Shelter Grants/Emergency Solutions Grants Program, 24 CFR part 576; Supportive Housing program, 24 CFR part 583;Shelter Plus Care program, 24 CFR part 582; Moderate Rehabilitation for Single Room Occupancy program, 24 CFR part 882, Subpart H; Continuum of Care program; Rural Housing Stability Assistance program.

b. Base Closure, Base Closure Community Redevelopment and Homeless Assistance Act of 1994, Public Law 103-421, 108 Stat. 4352 (codified as amended at 10 U.S.C. 2687 note); 24 CFR part 586.

c. Homelessness Prevention and Rapid Re-Housing Program (HPRP), as authorized under the Homelessness Prevention Fund heading of Division A, Title XII of the American Recovery and Reinvestment Act of 2009, Public Law 111-5, 123 Stat. 115.

d. Title V of the McKinney-Vento Homeless Assistance Act, Public Law 100-77, 101 Stat. 482 (1987) (codified as amended 42 U.S.C. 11411 et seq.), renamed by Act of Oct. 30, 2000, Public Law 106-400, 114 Stat. 1675 (2000), 24 CFR part 581.

e. Veterans Homelessness Prevention Demonstration Program, as provided for in annual HUD appropriations act(s) (e.g., Omnibus Appropriations Act, 2009, Public Law 111-8, 123 Stat. 524 (2009)).

f. AIDS Housing Opportunity Act, Title VIII, Subtitle D of the Cranston-Gonzalez National Affordable Housing Act, Public Law 101-625, 104 Stat. 4079 (1990) (codified as amended at 42 U.S.C. 12901-12912); 24 CFR part 574.

Further, in the absence of the Deputy Assistant Secretary for Special Needs, the Assistant Secretary redelegates to the Director of the Office of Special Needs Programs all powers and authorities of the Assistant Secretary necessary to carry out programs and matters listed in paragraphs a, b, c, d, and e of Section A.2. Further, the Assistant Secretary redelegates to the Director of the Community Assistance Division the authority to sign notices of available properties and subsequent letters regarding the properties under Title V of the McKinney-Vento Homeless Assistance Act (codified as amended 42 U.S.C. 11411 et seq.).

Further, in the absence of the Deputy Assistant Secretary for Special Needs, the Assistant Secretary redelegates to the Director of the Office of HIV/AIDS Housing all powers and authorities of the Assistant Secretary necessary to carry out programs and matters listed in paragraph f of Section A.2.

3. Deputy Assistant Secretary for Economic Development

Except those authorities specifically excluded, the Assistant Secretary redelegates to the Deputy Assistant Secretary for Economic Development all powers and authorities of the Assistant Secretary necessary to carry out the following Community Planning and Development programs and matters:

a. Economic Development Initiative grants, as provided for in annual HUD appropriations acts (e.g., Consolidated Appropriations Resolution, Fiscal Year 2003, Public Law 108-7, 117 Stat. 11 (2003)).

b. Economic development grants pursuant to Section 108(q) of Title I of the Housing and Community Development Act of 1974 (as amended 42 U.S.C. 5301 et seq.).

c. Grants for urban Empowerment Zones (EZ) as provided for in annual HUD appropriations acts (e.g., Consolidated Appropriations Resolution, Fiscal Year 2003, Public Law 108-7, 117 Stat. 11 (2003)).

d. The Loan Guarantee Recovery Program under Section 4 of the Church Arson Prevention Act of 1996, Public Law 104-155, 110 Stat. 1392 (codified at 18 U.S.C. 241 note); 24 CFR part 573.

e. Neighborhood Initiatives grants specifically designated in annual HUD appropriations acts (e.g., Consolidated Appropriations Act 2010, Public Law 111-117, 123 Stat. 3034 (2009)).

f. Rural Innovation Fund grants as provided for in annual HUD appropriations act(s) (e.g., Consolidated Appropriations Act 2010, Public Law 111-117, 123 Stat. 3084 (2009)).

g. Rural Housing and Economic Development grants specifically designated originally in the Fiscal Year 1998 HUD Appropriations Act, Public Law 105-65, 111 Stat. 1344 1997, and subsequent annual HUD appropriations acts.

h. The Renewal Communities (RC) Initiative as authorized under title 26, subtitle A, chapter 1, subchapter X of the Internal Revenue Code, as amended, 26 U.S.C. 1400E et seq.; 24 CFR part 599.

i. Urban Development Action Grants under Title I of the Housing and Community Development Act of 1974, Public Law 93-383, 88 Stat. 633 (codified as amended at 42 U.S.C. 5318).

j. The urban Empowerment Zones (EZ), as authorized under title 26, subtitle A, chapter 1, subchapter U of the Internal Revenue Code (codified as amended at 26 U.S.C. 1391 et seq.); 24 CFR parts 597 and 598.

k. Youthbuild Program, Title IV, Subtitle D of the Cranston-Gonzalez National Affordable Housing Act, Public Law 101-625, 104 Stat. 4079 (1990) (codified at 42 U.S.C. 12899 et seq.) (repealed 2006); 24 CFR part 585.

Further, in the absence of the Deputy Assistant Secretary for Economic Development, the Assistant Secretary redelegates to the Director of the Congressional Grants Division all powers and authorities of the Assistant Secretary necessary to carry out programs and matters listed in Section A.3.

4. Deputy Assistant Secretary for Operations

Except those authorities specifically excluded, the Assistant Secretary redelegates to the Deputy Assistant Secretary for Operations and the Director of Technical Assistance and Management all powers and authorities of the Assistant Secretary necessary to carry out the following Community Planning and Development programs and matters:

a. Technical Assistance and Capacity Building awards authorized under any program or matter delegated to the Assistant Secretary for Community Planning and Development (e.g., section 107 of the Housing and Community Development Act of 1987, as amended and Section 4 Capacity Building for Community Development and Affordable Housing Grants program as authorized by Section 4 of the HUD Demonstration Act of 1993 (Pub. L. 103-120, 107 Stat. 1148, 42 U.S.C. 9816 note), as amended, and as provided for in annual and supplemental HUD appropriations acts (e.g., Consolidated Appropriations Act 2010, Public Law 111-117, 123 Stat. 3093 (2009)).

b. All programs consolidated in the Revolving Fund (Liquidating Programs) established pursuant to Title II of the Independent Offices Appropriations Act, Public Law 98-45, 97 Stat. 223 (1983) (codified at 12 U.S.C. 1701g-5), including all authority of the Assistant Secretary with respect to functions, administration and management of the Revolving Fund (Liquidating Programs). Only the Assistant Secretary is the responsible official for allotments in the Revolving Fund (Liquidating Programs).

Section B. General Authority Excepted

The authority redelegated under Section A does not include:

1. The authority to issue or waive regulations covered by section 7(q) of the Department of Housing and Urban Development Act;

2. The authority to exercise the Federal Agency waiver authority provided under 49 CFR 24.7;

3. The authority to enter regulations or directives into Departmental clearance; or

4. Any authority not delegated to the Assistant Secretary for Community Planning and Development under the Consolidated Delegation of Authority for Community Planning and Development.

The Assistant Secretary may revoke at any time this redelegation with respect to the programs and matters listed in Section A.

Section C. Authority to Further Redelegate

The authority redelegated in Section A may be further redelegated to employees of the Department.

Section D. Redelegations Superseded

This notice and the notice of redelegation of authority to subordinate employees within CPD Field Offices also published today supersede all prior redelegations of authority from the Assistant Secretary of Community Planning and Development.

Section E. Actions Ratified

The Assistant Secretary hereby ratifies all actions previously taken by the Deputy Assistant Secretaries of Community Planning Development and other specified HUD officials, with respect to the programs and matters listed in Section A.

Authority: Section 7(d), Department of Housing and Urban Development Act, 42 U.S.C. 3535(d).

Dated: October 4, 2011.
Mercedes M. Márquez,
Assistant Secretary for Community Planning and Development.

[FR Doc. 2011-26912 Filed 10-17-11; 8:45 am]

BILLING CODE 4210-67-P